GENERAL SERVICES ADMINISTRATION

[Notice-PBS-2019-04; Docket No. 2019-0002; Sequence No. 10]

Notice of Intent To Prepare an Environmental Impact Statement for Land Ports of Entry

AGENCY: Public Buildings Service (PBS), General Services Administration (GSA).

ACTION: Notice of intent; meeting.

SUMMARY: The Federal Motor Carrier Safety Administration (FMCSA) and GSA have partnered to develop a program of projects at a number of Land Ports of Entry (LPOEs) so that FMCSA agents can safely and effectively inspect both commercial truck and bus traffic. GSA intends to prepare an Environmental Impact Statement (EIS) to analyze the potential impacts from the proposed construction of six (6) inspection facilities at five (5) different LPOEs in both California and Arizona.

DATES: The views and comments of the public are necessary to help determine the scope and content of the environmental analysis. Interested parties are encouraged to attend and provide written comments regarding the scope of the EIS and the proposed facilities by Thursday, July 11, 2019.

Scoping meetings for the EIS will be held on four (4) separate dates listed below:

• San Ysidro, CA & Otay Mesa, CA

Tuesday, June 18, 2019, 4:00 p.m. to 6:00 p.m., San Diego, CA.

• Calexico East, CA

Thursday, June 20, 2019, 4:00 p.m. to 6:00 p.m., Calexico, CA.

• San Luis II, AZ

Wednesday, June 26, 2019, 4:00 p.m. to 6:00 p.m., Yuma, AZ.

• Nogales Mariposa, AZ

Thursday, June 27, 2019, 4:00 p.m. to 6:00 p.m., Nogales, AZ.

ADDRESSES: The meetings will be conducted in an open house format, where project information will be presented and distributed. Comments regarding the scope of the EIS and the proposed facilities may be sent to the point of contact listed in the FOR FURTHER INFORMATION section.

The meetings will be held at the following locations:

• San Ysidro, CA & Otay Mesa Sites

The FRONT Arte Cultura, 147 W San Ysidro Blvd., San Diego, CA 92173, telephone (619) 428-1115.

• Calexico East, CA Site

Holiday Inn Express Calexico, 2501 Scaroni Avenue, Calexico, CA 92231, telephone 760-768-6048.

• San Luis II, AZ Site

Holiday Inn Express and Suites Yuma, 2044 S Avenue 3E, Yuma, AZ 85365, telephone 928-317-1400.

• Nogales Mariposa, AZ Site

Holiday Inn Express Nogales, 850 W Shell Road, Nogales, AZ 85621, telephone 520-281-0123.

FOR FURTHER INFORMATION CONTACT:

• Email: Osmahn A. Kadri at osmahn.kadri@gsa.gov.

• Mail: Attn: Osmahn Kadri, NEPA Program Manager, 50 United Nations Plaza, 3345 Mailbox #9, San Francisco, CA 94102.

• Telephone: 415-522-3617 (Please also call this number if special assistance is needed to attend and participate in the public scoping meetings).

SUPPLEMENTARY INFORMATION:

Background

The FMCSA has been tasked with ensuring that commercial vehicles entering the United States (U.S.) and travelling on U.S. Highways are operating safely and within current U.S. standards. To achieve this mission and ensure safety on public highways, FMCSA must inspect commercial and bus traffic at points of destination or origin, the U.S.-Mexico Border being a main point of origin.

FMCSA inspectors currently inspect both bus and commercial truck traffic at multiple LPOEs along the U.S.-Mexico Border in both California and Arizona at facilities that were not built for their needs and at sites which do not allow for thorough, safe inspection of vehicles. In April of 2018, FMCSA received funding from the Committees of Congress to develop, design, and construct facilities that will allow them to meet their mission goals safely and effectively.

It has been determined that to achieve this mission, six (6) inspection facilities will be needed at five (5) different LPOEs in both California and Arizona:

• San Ysidro, CA (Bus Inspection)

• Otay Mesa, CA (Commercial Truck Inspection)

• Calexico East, CA (Bus and Commercial Truck Inspection)

• San Luis II, AZ (Commercial Truck Inspection)

• Nogales Mariposa, AZ (Commercial Truck Inspection)

Alternatives

The EIS will consider three Alternatives; a “preferred build alternative” for six (6) facilities at five (5) locations, a “smaller footprint” build alternative for six (6) facilities at the same five (5) locations, and a “no action” alternative. The alternatives for each location are described below:

San Ysidro LPOE, CA

The construction of a new bus inspection facility on a newly acquired federal site north of the LPOE. The proposed facility includes an existing single-story building and parking lot. Site work would require the clearing of the existing site and building, extension/relocation of existing utilities for electrical, sanitary sewer and water, paving of the bus path and realignment and partial paving of the parking lot and entry and exit access through the site. Facility construction would include an inspection canopy with pits and a “Basic” FMCSA administration building. The other build alternative would consist of a smaller facility footprint on the same location.

Otay Mesa LPOE, CA

The proposed truck inspection facility would be located to the east of the current and proposed Port of Entry, on a site currently owned and operated by the California Department of Transportation. The proposed site is linked to the Port of Entry by a frontage road that is already in place. Site work would require the clearing of the existing site, extension of existing utilities for electrical, sanitary sewer and water. Facility construction would include an inspection canopy with a pit and a “Basic” FMCSA administration building. The other build alternative would consist of a smaller facility footprint on the same location.

Calexico East LPOE, CA

The proposed truck inspection facility would be located beyond the northern edge of the LPOE property line, adjacent to California State Highway Patrol land and is accessed at the exit of the LPOE. Site work would require the clearing of the existing site, extension of existing utilities for electrical, sanitary sewer and water,and paving of the truck path. Facility construction would include an inspection canopy with pits and a “Medium 1” FMCSA administration building. The other build alternative would consist of a smaller facility footprint on the same location.

The proposed bus facility would be located on the northwestern edge of the LPOE property. Site work would require the extension of existing utilities for electrical, sanitary sewer and water, and paving of the bus path through the site. Facility construction would include an inspection canopy with pits and a “Basic” FMCSA administration building. The other build alternative would consist of a smaller facility footprint on the same location.

San Luis II LPOE, AZ

The proposed truck inspection facility would be located on the northern edge of the LPOE property line. A portion of the site work would be constructed on newly acquired Federal land that will allow access from the site after hours. Site work would require the clearing of the existing site, extension of existing utilities for electrical, sanitary sewer and water, paving of the truck path, and relocating the existing CBP impound lot. Facility construction would include an inspection canopy with pits and a “Medium 1” FMCSA administration building. The other build alternative would consist of a smaller facility footprint on the same location.

Nogales Mariposa LPOE, AZ

The proposed truck inspection facility would be located on privately owned land, north of the existing LPOE. Site work would require the clearing of the existing site, extension of existing utilities for electrical, sanitary sewer and water, paving of the truck path. Facility construction would include an inspection canopy with pits and a FMCSA administration building. The other build alternative would consist of a smaller facility footprint on the same location.

The “no action” alternative assumes that no new facility would be constructed at any of the sites and the LPOEs and FMCSA operations would continue to operate under current conditions.

Dated: May 15, 2019.
Jared Bradley,
Director, Portfolio Management Division, Pacific Rim Region, Public Buildings Service.

[FR Doc. 2019-10783 Filed 5-22-19; 8:45 am]

BILLING CODE 6820-YF-P